DEPARTMENT OF TRANSPORTATION

Federal Aviation Administration

Agency Information Collection Activity Under OMB Review

AGENCY: Federal Aviation Administration (FAA), DOT.

ACTION: Notice.

SUMMARY: In compliance with the Paperwork Reduction At of 1995 (44 U.S.C. 3501 et seq.), this notice announces that the new Information Collection Request (ICR) abstracted below had been forwarded to the Office of Management and Budget (OMB) for review and request for clearance. The ICR describes the nature of the information collection and the expected burden. The Federal Register Notice with a 60-day comment period soliciting comments on the following new collection of information was published on April 25, 2001, pages 20848-20849.

DATES: Comments must be submitted on or before (August 13, 2001. A comment to OMB is most effective if OMB receives it within 30 days of publication.

FOR FURTHER INFORMATION CONTACT: Judy Street on (202) 267-9895.

SUPPLEMENTARY INFORMATION:

Federal Aviation Administration (FAA)

Title: FAA Form 1200-5, NAS Data Release Request.

Type of Request: New.

OMB Control Number: xxxx-xxxx.

Forms(s) FAA Form 1200-5.

Affected Public: An estimated 9 respondents (vendors in private industry who have been contacted by airport authorities to conduct various studies such as noise abatement pollution reduction, or private airport operators who may have a need to study various radar tracts to ascertain airport position.)

Abstract: The FAA is collecting basic vendor information such as name, address, phone number, point of contact, purpose of request, type of data requested, and method of acquiring FAA NAS data. The FAA is collecting this information in order to assess the validity of the data requestor. This is a standardized collection vehicle that will eliminate confusion among the nine FAA regions, and allow electronic tracking of the standard data requested for trend analysis.

Estimated Annual Burden Hours: 27 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on July 6, 2001.
Steve Hopkins,
Manager, Standards and Information Division.

[FR Doc. 01-17568 Filed 7-12-01; 8:45 am]

BILLING CODE 4910-13-M